DEPARTMENT OF COMMERCE

National Oceanic and Atmospheric Administration

RIN 0648-XQ91

Fisheries of the Pacific Region; Mid-Atlantic Region, Gulf of Mexico Region

AGENCY: National Marine Fisheries Service (NMFS), National Oceanic and Atmospheric Administration (NOAA), Commerce.

ACTION: Notification of determination of overfishing and or an overfished condition.

SUMMARY: This action serves as a notice that NMFS, on behalf of the Secretary of Commerce (Secretary), has determined that in the Pacific Region, the canary rockfish stock, as well as the Queets coho stock and the Western Straights of Juan de Fuca coho stocks, have been determined to be in an overfished condition. In addition, the Gulf of Mexico stock of gag grouper has been determined to be in an overfished condition. Finally, the Mid-Atlantic stock of black sea bass was found to be experiencing overfishing in 2007. However, since this determination, an updated assessment using 2008 data has been completed and NMFS has determined that overfishing is no longer occuring.

For any stocks which NMFS determines to be experiencing overfishing in 2009, the applicable fishery management council (Council) must amend the stock's Fishery Management Plan (FMP) to establish a mechanism for specifying Annual Catch Limits (ACLs) and Accountability Measures (AMs) and specify ACLs and AMs in 2010, if possible, but no later than 2011. For stocks which NMFS determines to be in or approaching an overfished condition and provides notice to the applicable Council(s) after July 12, 2009, the applicable Council(s) must, within two years of such notification, prepare and implement an FMP amendment or proposed regulations to rebuild such stocks.

FOR FURTHER INFORMATION CONTACT: Mark Nelson, (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, notifies Councils whenever it determines; a stock or stock complex is approaching an overfished condition; a stock or stock complex is overfished; or existing action taken to prevent previously identified overfishing or rebuilding a previously identified overfished stock or stock complex has not resulted in adequate progress. NMFS also notifies Councils when it determines a stock or stock complex is subject to overfishing.

For a fishery determined to be overfished or approaching an overfished condition, NMFS also requests that the appropriate Council, or the Secretary, for fisheries under section 302(a)(3) of the Magnuson-Stevens Act, take action to end overfishing in the fishery and to implement conservation and management measures to rebuild affected stocks. Councils (or the Secretary) receiving notification after July 12, 2009, that a fishery is overfished must, within 2 years of notification, implement a rebuilding plan, through an FMP Amendment or proposed regulations, which ends overfishing immediately and provides for rebuilding the fishery in accordance with 16 U.S.C. 1854(e)(3)-(4) as implemented by 50 CFR 600.310(j)(2)(ii). Councils receiving a notice that a fishery is approaching an overfished condition must prepare and implement, within two years, an FMP amendment or proposed regulations to prevent overfishing from occurring. When developing rebuilding plans Councils (or the Secretary), in addition to rebuilding the fishery within the shortest time possible in accordance with 16 U.S.C. 1854(e)(4) and 50 C.F.R. 600.310(j)(2)(ii), must ensure that such actions address the requirements to amend the FMP for each affected stock or stock complex to establish a mechanism for specifying and actually specify Annual Catch Limits (ACLs) and Accountability Measures (AMs) to prevent overfishing in accordance with 16 U.S.C. 1853(a)(15) and 50 CFR 600.310(j)(2)(i).

On July 31, 2009, NMFS informed the Pacific Fisheries Management Council that both the Queets stock of coho salmon and the Western Straight of Juan de Fuca stocks of coho salmon failed to meet their escapement goals for the third consecutive year, which has triggered an overfished status determination.

In addition, on September 9, 2009, NMFS notified the Pacific Fisheries Management Council that the latest stock assessment for canary rockfish estimated the current biomass to be below the overfished threshold.

During the third quarter of 2009, the first stock assessment for the Gulf of Mexico stock of gag grouper was finalized. The assessment found that the stock is in an overfished condition. The Gulf of Mexico Fisheries Management Council was notified of the status determination on August 11, 2009.

On April 22, 2009, NMFS notified the Mid-Atlantic Fisheries Management Council that the Mid-Atlantic coast stock of black sea bass was experiencing overfishing. This determination was based on an assessment using data up to 2007. Since this determination the assessment has been updated using 2008 data. The updated assessment found that the fishing mortality in 2008 was below the overfishing threshold, and NMFS has determined that overfishing is no longer occurring.

As noted above, within 2 years of determination that a fishery is overfished, the respective Council (or the Secretary) must adopt and implement a rebuilding plan, through an FMP Amendment or proposed implementing regulations, which ends overfishing immediately and provides for rebuilding. In addition, for the fisheries experiencing overfishing, the responsible Councils (or the Secretary) must propose, and NMFS must adopt, effective ACLs and AMs by fishing year 2010, if possible, but no later than 2011 to end overfishing.

Dated: December 15, 2009.
Emily H. Menashes,
Acting Director, Office of Sustainable Fisheries, National Marine Fisheries Service

[FR Doc. E9-30387 Filed 12-21-09; 8:45 am]

BILLING CODE 3510-22-S